DEPARTMENT OF TRANSPORTATION

Office of the Secretary

DOT's Migration to the Federal Docket Management Systems (FDMS)

AGENCY: Office of the Secretary (OST), DOT.

ACTION: Notice.

SUMMARY: This notice announces a service disruption to DOT's Docket Management System (DMS), which contains the public dockets for all DOT agencies (except for the Surface Transportation Board), the Transportation Security Administration (TSA), and the United States Coast Guard (USCG). (Subsequent references to ``DOT'' in this document also apply to TSA and USCG.) Effective September 30, 2007, DOT's DMS will be replaced by the Federal Docket Management System (FDMS), a government-wide, electronic docket management system. Please note that in preparation for migration, effective Thursday, September 27, 2007 at 5 p.m. DMS will no longer accept electronic comments/submissions. DMS will accept, as well as process, faxed and other paper documents up until 12 noon on Friday, September 28, 2007. If falling due during this transition, due dates for filings in rulemakings and adjudications will be delayed until October 1, 2007, unless otherwise advised by the originating office. On October 1, 2007 FDMS will begin accepting DOT-related electronic submission. At that time, it will display all open DOT dockets. Between October 1 and October 31, the remaining DOT dockets still will be accessible in DMS. By October 31, the full migration of all dockets currently in DMS is expected to be completed. The change in systems will not change any requirements in DOT regulations.

FOR FURTHER INFORMATION CONTACT: Renee V. Wright, Program Manager, Docket Operations, Office of Information Services, 1200 New Jersey Avenue, SE., Washington, DC 20590; telephone number: (202) 493-0402; fax number (202) 493-2251; e-mail address: renee.wright@dot.gov.

SUPPLEMENTARY INFORMATION:

I. Background

FDMS is a major component of the President's e-Rulemaking Initiative, which provides easy access to the public dockets maintained by Federal agencies, while streamlining and increasing the efficiency of the internal procedures for agencies that did not already have electronic internet-accessible systems. FDMS is designed so that the public has a single point of access to the public dockets across the Federal government. FDMS offers a standard, online procedure for Federal agencies to handle and process documents. The Initiative reduces costs by eliminating duplicative information systems and technical infrastructures.

A. What Is FDMS?

FDMS is a full-featured electronic docket management system that gives Federal personnel and docket managers the ability to better manage their rulemakings, adjudications, and other docketed program activities. With this system, more than thirty Federal departments and agencies can post documents, supporting materials, and public comments/submissions on the Internet and the public will have a one-stop site to search, view, and download documents, as well as to submit comments or other documents to the agency dockets. Although all Federal agencies are required to use FDMS for their rulemaking dockets, FDMS also will handle and process public docket materials for other purposes. DOT will use it for all of the material currently docketed in DMS, such as adjudications, peer review, and data quality. We will shortly add a docket subcategory for significant guidance documents.

B. How Can I Access and Use FDMS?

You may access FDMS on the Internet at http://www.regulations.gov. You may use FDMS to access available public docket materials online, as well as submit electronic comments or other documents to a particular docket available in FDMS.

C. How Can I Search FDMS?

You may also search for an available public docket or for particular docket material. FDMS provides two basic methods of searching to retrieve dockets and docket materials that are available in the system: (1) “Quick Search” to search using a full-text search engine, or (2) “Advanced Search,” which displays various indexed fields such as the docket name, docket identification number, phase of the action, initiating office, date of issuance, document title, document identification number, type of document, Federal Register reference, CFR citation, etc. Each data field in the advanced search may be searched independently or in combination with other fields, as desired. Each search yields a simultaneous display of all available information found in FDMS that is relevant to the requested subject or topic.

D. How Can I Make Submissions to FDMS?

1. Online. You may submit your comments/submissions online to FDMS when a particular docket is open for public submissions. Federal Register notices and adjudicatory and other documents will usually identify whether a docket has been established in FDMS. FDMS also can be searched to determine if a docket has been established. Using http://www.Regulations.gov to submit comments or other documents is DOT's preferred method for receiving comments/submissions. Follow the online instructions for submitting comments/submissions.

2. Mail. Documents also may be submitted by mail to Docket Management Facility, U.S. Department of Transportation, 1200 New Jersey, SE., West Building Ground Floor, Room W12-140, Washington, DC 20590-0001.

3. Hand-delivery. Documents may be submitted by hand delivery or courier to West Building Ground Floor, Room W12-140, 1200 New Jersey Avenue, SE., Washington, DC between 9 a.m. and 5 p.m. ET, Monday through Friday, except Federal holidays.

4. Fax. Faxed submissions are accepeted at: 202-493-2251

E. How Will DOT Know Who Is Making a Submission?

As with DMS, FDMS is an “anonymous access” system, which means DOT will not know your identity, e-mail address, or other contact information unless it is provided in the body of your submission. DOT rules applicable to adjudicatory submissions still apply. We recommend that you include your name, mailing address, and an e-mail address or other contact information in the body of your document to ensure that you can be identified as the submitter. This also allows DOT to contact you in the event further information is needed or if there are questions. For example, if DOT cannot read your submission due to technical difficulties and you cannot be contacted, your submission may not be considered. Note that it is DOT's policy not to edit your submission; all documents received will be posted without change to http://www.regulations.gov, including any personal information provided. Therefore, any identifying or contact information provided in the body of a submission will be included in the official public docket, and made available to the public.

F. What Effect Will Use of FDMS Have on My Privacy?

As with DMS, anyone is able to search the electronic form of all submissions entered into any of our dockets in FDMS by the name of the individual submitting the document (or signing the document, if submitted on behalf of an association, business, labor union, etc.). You may review DOT's complete Privacy Act Statement in the Federal Register published on April 11, 2000 (65 FR 19477-78) or you may visit http://DocketsInfo.dot.gov, which will be available by October 1, 2007.

G. Will FDMS Offer List Serves Like DMS?

FDMS will offer a list serve. Anyone who had formerly signed up for the DMS list serve will have to sign up again in FDMS to receive e-mail notifications from FDMS. We apologize for any inconvenience this will cause. Note that FDMS's list serve will only allow users to sign up for specific dockets. Users will not be able to sign up for categories of dockets, such as all FMCSA rulemakings. Users also will not be able to sign up for the subject areas currently allowed in DMS. (e.g., federalism). Some features that were available in DMS will not work in FDMS. For example, the list serve in DMS can search our Rulemaking Management System (RMS) for data necessary to respond to a list serve request. FDMS cannot search RMS for data because it is not allowed to go behind the DOT firewall. In response to this change, to help identify matters of interest for which the public may wish to sign up in the FDMS list serve, DOT will provide some reports and other information on http://DocketsInfo.dot.gov.

II. Migration From DMS to FDMS

A. Phased Migration

Using a phased approach, all dockets currently contained in DMS will be moved to FDMS. All open DOT dockets (dockets to which DOT agencies or the public may still submit documents or comments) will be available in FDMS on October 1, 2007. Due to the tremendous amount of data to be transferred from DOT DMS to FDMS, the migration of the remaining dockets will occur over the month of October and is expected to be completed by October 31, 2007. During this time, DMS will remain online for searching, viewing, and downloading documents in these remaining DOT dockets.

Beginning October 1, 2007, any filing to an open docket must go to the FDMS at http://www.Regulations.gov. Until 12:00 noon on Friday, September 28, 2007, DMS will process all remaining September 27 electronic submissions in the pipeline, as well as any faxed or paper documents. DMS will accept, as well as process, faxed and paper documents up until 12:00 noon on Friday, September 28, 2007. Any faxed or paper submissions received after that time or not processed by 12:00 noon Friday, September 28, 2007, in DMS, will be processed on Monday, October 1 in FDMS.

B. Docket ID Numbers

When DOT migrates its DMS data to FDMS, docket (identification) numbers that were assigned in DMS (legacy numbers), will, for the most part, remain the same in FDMS. However, dockets that used to be designated “OST”, “RSPA”, “BTS”, and “OMCS” in DMS will change to the following:

OST-2007-1486 will become DOT-OST-2007-1486. RSPA-2007-1486 will become PHMSA-RSPA-2007-1486. BTS-2007-1486 will become RITA-BTS-2007-1486. OMCS-2007-1486 will become FMCSA-OMCS-2007-1486.

FDMS will provide online public access to all existing, legacy dockets in DMS. Any Docket opened after September 27, 2007, will receive a docket ID in FDMS format.

C. DOT-wide Searches

If you want to search all DOT agencies, including OST, for a docket, you should do so by selecting “Department of Transportation (ALL)”.

D. FDMS Submissions and Docket Numbers

Currently in DMS, the public may submit comments and other documents, such as applications, petitions, exemptions, waivers, and other documents without knowing the actual docket ID. In FDMS, you are not allowed to submit a document without a docket ID. To handle this, DOT will be implementing “shell dockets”. A “shell docket” will be a “catch all” for submissions, such as applications, petitions, exemptions, and/or waivers, and data quality without a docket ID. DOT staff will review the documents in the “shell docket” and file them appropriately.

E. FDMS Docket Types

FDMS dockets are divided into two types, ``Rulemaking'' and ``Non-Rulemaking.'' To review dockets or make submissions, please use the ``Search the Docket'' tab. Select the department or agency and use the docket type ``non-rulemaking'' for all dockets other than rulemaking; from there you can select the appropriate sub-type, such as ``Peer Review''.

III. Additional Information

A. Information on Use of FDMS

Additional details about FDMS, as well as detailed instructions and assistance for using the system, are available at http://www.regulations.gov DOT will also have available online by October 1, 2007, a new site that will provide helpful information about the use of FDMS for DOT dockets. The site will also contain other helpful information, such as reports that were available on DMS but will not be available on FDMS. The site will be at http://DocketsInfo.dot.gov. In addition, if you are interested in attending informational sessions regarding FDMS that DOT will be offering on October 3, 2007, (2-4 pm for the public) and October 4, 2007, (9-11 am for the public) in the DOT Conference Center/Multi-Media Room, West Building, Room W11-130 at 1200 New Jersey Avenue, SE., Washington, DC. Sign up is available at http://www.dms.dot.gov.

B. Agencies Covered

This notice applies to: the Federal Aviation Administration (FAA), the National Highway Traffic Safety Administration (NHTSA), the Federal Highway Administration (FHWA), the Federal Railroad Administration (FRA), the Federal Motor Carrier Safety Administration (FMCSA), the Research and Innovative Technology Administrative (RITA), the Federal Transit Administration (FTA), the Maritime Administration (MARAD), the Pipeline and Hazardous Materials Safety Administration (PHMSA), the Saint Lawrence Seaway Development Corporation (SLSDC), and the Office of the Secretary (OST). Please note that the Transportation Security Administration (TSA) and the United States Coast Guard (USCG) also use DMS and their dockets will be transferring with the DOT dockets to FDMS.

Renee V. Wright,
Program Manager, Docket Operations.
Dated: September 19, 2007.

[FR Doc. 07-4709 Filed 9-19-07; 2:26 pm]

BILLING CODE 4910-9X-M